OFFICE OF PERSONNEL MANAGEMENT

5 CFR Part 532

RIN 3206-AL82

Prevailing Rate Systems; Redefinition of the Boise, ID, and Utah Appropriated Fund Federal Wage System Wage Areas

AGENCY: U.S. Office of Personnel Management.

ACTION: Final rule.

SUMMARY: The U.S. Office of Personnel Management is issuing a final rule to redefine the geographic boundaries of the Boise, ID, and Utah appropriated fund Federal Wage System (FWS) wage areas. The final rule redefines Franklin County, ID, from the Boise wage area to the Utah wage area. These changes are based on consensus recommendations of the Federal Prevailing Rate Advisory Committee (FPRAC) to best match the counties proposed for redefinition to a nearby FWS survey area. FPRAC recommended no other changes in the geographic definitions of the Boise and Utah FWS wage areas.

DATES: This regulation is effective on September 21, 2009.

FOR FURTHER INFORMATION CONTACT: Madeline Gonzalez, (202) 606-2838; e-mail pay-performance-policy@opm.gov; or Fax: (202) 606-4264.

SUPPLEMENTARY INFORMATION: On March 9, 2009, the U.S. Office of Personnel Management (OPM) issued a proposed rule (74 FR 9968) to redefine Franklin County, ID, from the Boise, ID, wage area to the Utah wage area. These changes are based on consensus recommendations of the Federal Prevailing Rate Advisory Committee. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of Information, Government employees, Reporting and recordkeeping requirements, Wages.

U.S. Office of Personnel Management.
John Berry,
Director

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Boise, ID, and Utah wage areas to read as follows:

Appendix C to Subpart B of Part 532—Appropriated Fund Wage and Survey Areas

* * * * *

IDAHO
Boise
Survey Area
Idaho:
Ada
Boise
Canyon
Elmore
Gem
Area of Application. Survey Area Plus:
Idaho:
Adams
Bannock
Bear Lake
Bingham
Blaine
Bonneville
Butte
Camas
Caribou
Cassia
Clark
Custer
Fremont
Gooding
Jefferson
Jerome
Lemhi
Lincoln
Madison
Minidoka
Oneida
Owyhee
Payette
Power
Teton
Twin Falls
Valley
Washington
* * * * *
UTAH
Survey Area
Utah:
Box Elder
Davis
Salt Lake
Tooele
Utah
Weber
Area of Application. Survey Area Plus
Utah:
Beaver
Cache
Carbon
Daggett
Duchesne
Emery
Garfield
Grand
Iron
Juab
Millard
Morgan
Piute
Rich
San Juan (Only includes the Canyonlands National Park portion.)
Sanpete
Sevier
Summit
Uintah
Wasatch
Washington
Wayne
Colorado:
Mesa
Moffat
Idaho:
Franklin
* * * * *

[FR Doc. E9-20094 Filed 8-20-09; 8:45 am]

BILLING CODE 6325-39-P